DEPARTMENT OF THE INTERIOR

Bureau of Land Management

[WY-930-01-1060-JJ]

Notice of Intent to Remove Wild Horses

AGENCY: Bureau of Land Management, Interior.

SUMMARY: The Wild, Free Roaming Horse and Burro Act, as amended (Pub. 92-195), provides, among other things, that excess wild horses shall be removed from public lands.

The Bureau of Land Management plans to continue removal operations according to the following schedule. Beginning approximately October 15, 2001, and continuing through November 15, 2001, remove approximately 450 horses from the I-80 North area and the Stewart Creek herd management area, 180 horses from the Little Colorado herd management area, and 275 horses from the White Mountain herd management area. Dates and numbers are approximate depending on weather and soil conditions and other factors unforseen at this time. BLM plans to remove approximately 905 horses from public lands according to the above schedule. Environmental documents and decision documents pertaining to these actions may be viewed at http://www.wy.blm.gov/currentnews/wildhorses/WILDHORSEADOPTION.HTML or copies may be obtained by writing to the Bureau of Land Management at the address below.

DATES: October 15 through November 15, 2001.

FOR FURTHER INFORMATION CONTACT: State Director, Bureau of Land Management, P.O. Box 1828, Cheyenne, WY 82003-1828. Phone: (307) 775-6001.

Dated: September 24, 2001.
Alan R. Pierson,
State Director.

[FR Doc. 01-25174 Filed 10-5-01; 8:45 am]

BILLING CODE 4310-22-P